DEPARTMENT OF HEALTH AND HUMAN SERVICES

Centers for Disease Control and Prevention

[Program Announcement 00026]

Cooperative Agreement for National Programs To Prevent HIV Infection and Other Important Health Problems Among Youth and To Strengthen Coordinated School Health Programs; Notice of Availability of Funds

A. Purpose

The Centers for Disease Control and Prevention (CDC) announces the availability of fiscal year (FY) 2000 funds for cooperative agreements to national organizations that can become a part of a national strategy to prevent and reduce sexual behaviors that result in HIV infection, other Sexually Transmitted Diseases (STDs), and unintended pregnancy.

These national organizations will work to strengthen the capacity of national, state, and/or local agencies to help schools and other societal institutions to prevent behaviors that place all young people, and particularly those from communities of color, at risk for HIV infection, other STDs, and unintended pregnancy.

This program addresses the “Healthy People 2000” priority area of Education and Community-Based Programs; and, the draft “Healthy People 2010” priority area of Education and Community-Based Programs; HIV; and STDs.

The purpose of this program announcement is to provide support for these national organizations to work exclusively on helping young people, particularly in communities of color, to not engage in sexual intercourse and engage a range of organizations to prevent and reduce the risk behaviors described above.

B. Eligible Applicants

Assistance will be provided to only national health, education, and social service organizations that are nonprofit, professional, or voluntary. Proof of nonprofit status must be provided prior to receipt of an award (AR-15 included in the application package.

To meet the CDC definition of a national organization, eligible applicants must have affiliates in a minimum of 10 states and territories. Eligible organizations must also have experience strengthening the capacity of national, state, and/or local agencies to help schools and other societal institutions to prevent behaviors that place all young people at risk for HIV infection, other STDs, and unintended pregnancy with the exclusive focus of their efforts in this area being on helping young people to not engage in sexual intercourse. Eligible organizations must also have experience and established relationships with other organizations and individuals that have this same focus. Applicants must provide proof that any activity that is designed to prevent behaviors that put youth at risk for HIV, other STDs, and unintended pregnancy have the exclusive focus on helping youth to not engage in sexual intercourse. This proof shall include a statement that the organization's purpose in conducting any activity that is designed to prevent behaviors that put youth at risk for HIV, other STDs, and unintended pregnancy is to help youth not engage in intercourse.

C. Availability of Funds

Approximately $400,000 is available in FY 2000 to fund up to approximately three awards. It is expected that the average award will be $140,000, ranging from $120,000 to $160,000. It is expected that the awards will begin on or about June 1, 2000 and will be made for a 12-month budget period within a project period of up to 5 years. Funding estimates may vary and are subject to change. Continuation awards within an approved project period will be made on the basis of satisfactory performance as evidenced by required reports and on the availability of funds.

Use of Funds

Funds must be used exclusively for activities that help young people not engage in sexual intercourse. Applicants must not identify any activities that would constitute research. Activities funded under this announcement are intended to build the capacity of national organizations to promote the prevention of HIV, other STDs, and unintended pregnancy among youth and should not include any formal or informal research.

D. Program Requirements

In conducting activities to achieve the purpose of this program, the recipient will be responsible for conducting activities under 1. Recipient Activities, and CDC will be responsible for activities under 2. CDC Activities, below:

1. Recipient Activities

a. Work with interested CDC-funded and other national, state and local organizations to develop credible strategies to prevent sexual behaviors that result in HIV infection, other STDs, and unintended pregnancy by helping young people not engage in sexual intercourse. This work should focus on building partnerships among these different organizations at the state and local level to provide a comprehensive set of strategies to prevent behaviors that place all young people at risk for HIV infection, other STDs, and unintended pregnancy.

b. Establish and implement specific and measurable goals and objectives.

c. Evaluate the effectiveness of the program and use evaluation results for programmatic improvement and long-range planning.

d. Participate in the Centers for Disease Control and Prevention, Division of Adolescent and School Health's (DASH) national conferences and at least one training workshop during the budget period.

e. Share credible project-related information and materials with other interested State Education Agencies (SEAs), Local Education Agencies (LEAs), Post-secondary Institutions (PSIs), and national organizations through awareness sessions, training events, electronic communications, state and national conferences and CDC-sponsored training workshops and conferences.

f. Implement an operational plan that may include, but is not limited to, one or more of the following activities:

(1) Help interested State and local education agencies, CDC-funded and other national agencies to integrate credible strategies to help young people to not engage in sexual intercourse.

(2) Collaborate with interested CDC-funded and other national organizations to establish and maintain credible initiatives to help young people to not engage in sexual intercourse and prevent behaviors that place school-through college-aged young people at risk for HIV infection, other STDs, and unintended pregnancy.

(3) Educate and enable interested managers, who are members of CDC-funded and other national organizations, to support credible, locally determined programs designed to encourage youth not to engage in sexual intercourse.

(4) Provide technical assistance on helping young people to not engage in sexual intercourse to interested CDC-funded and other organizations, including State and local education agencies, and national organizations.

(5) Support efforts by interested State and local education agencies, health departments, and social service agencies to help young people to not engage in sexual intercourse as part of a comprehensive HIV, other STDs, and unintended pregnancy prevention effort.

2. CDC Activities

a. Provide and periodically update programmatic information.

b. Coordinate with national, state, and local education, health and social service agencies, as well as other relevant organizations, in planning and conducting national strategies designed to strengthen programs for preventing HIV infection, other STDs, and unintended pregnancy among young people.

c. Provide programmatic consultation and guidance related to program planning, implementation, and evaluation; assessment of program objectives; and dissemination of successful strategies, experiences, and evaluation reports.

d. Plan and carry out meetings of national, state, and local education agencies and other appropriate organizations and individuals to address issues and program activities related to improving coordinated school health programs and strengthening the capacity of post-secondary institutions and agencies that serve young people to prevent HIV infection, other STDs, and unintended pregnancy among young people.

e. Assist in the evaluation of program activities.

E. Application Content

Use the information in the Program Requirements, Other Requirements, and Evaluation Criteria sections to develop the application content. Your application will be evaluated on the criteria listed, so it is important to follow them in laying out your program plan. The narrative should be no more than [40] double-spaced pages, printed on one side, with one inch margins, and unreduced font.

1. Executive Summary. The applicant should provide a concise, two to three page, summary that clearly describes:

a. Eligibility, including:

(1) Status as a national organization to include the number and geographic location of affiliates representing at least 10 states and territories,

(2) Experience and capacity to work exclusively on helping young people to not engage in sexual intercourse and engage a range of organizations to prevent and reduce the risk behaviors that place all young people at risk for HIV infection, other STDs, unintended pregnancy, and other serious health problems.

(3) Proof that the activities designed to prevent sexual risk behaviors (those behaviors that put youth at risk for HIV, STDs, unintended pregnancy and other serious health problems) focus only on helping youth to not engage in sexual intercourse. This proof shall include a statement that the organization's sole purpose in conducting any activity that is designed to prevent behaviors that put youth at risk for HIV, other STDs, and unintended pregnancy is to help youth not engage in intercourse.

(4) Documentation that supports eligibility should be submitted as an attachment to the Executive Summary. Specifically, the applicant must submit a valid tax exempt status under Section 501(c)(3) as evidenced by an Internal Revenue Service determination letter.

b. The major proposed goals, objectives, and activities for implementation of the program, as well as the total requested amount of Federal funding.

c. Applicant's capability to implement the program.

2. Background (not more than 4 pages): Applicant should describe the Organization's background and experience in addressing the needs related to the purpose of this announcement.

3. Capacity (not more than 8 pages).

a. Describe ability to address the identified needs.

b. Describe affiliates as follows:

(1) Types of affiliates.

(2) Number of affiliates.

(3) Location of affiliates.

(4) How the affiliates can work with or influence the population identified in the purpose of the announcement.

c. Describe efforts and relevant experience at the national, state, and local levels that support the purpose of the announcement, including such factors as:

(1) Current and previous experience related to the proposed program activities.

(2) Activities related to building partnerships with diverse organizations.

(3) Current and previous coordination and collaboration with national, non-governmental agencies that have an interest in helping young people to not engage in sexual intercourse.

d. Submit a copy of the organizational chart, describe the organizational structure, and describe how that structure supports health promotion and education activities.

4. Operational Plan (not more than 15 pages).

a. Goals. List goals that specifically relate to program requirements that indicate what the program will have accomplished at the end of the projected 5-year project period. The goals should relate directly to the recipient activities and project objectives.

b. Objectives. List objectives that are specific, measurable, and feasible to be accomplished during the projected 12-month budget period. The objectives should relate directly to the project goals and recipient activities.

c. Describe in narrative form and display on a 12-month timetable, specific activities that are related to each objective. Indicate when each activity will occur as well as when preparations for activities will occur. Also, indicate who will be responsible for each activity and identify staff who will work on each activity.

5. Project Management and Staffing Plan (8 pages).

a. Describe the proposed staffing for the project and provide job descriptions for existing and proposed positions.

b. Submit curriculum vitae (limited to 2 pages per person) for each professional staff member named in the proposal.

c. Submit job descriptions illustrating the level of organizational responsibility for professional staff who will be assigned to the project.

d. If other organizations will participate in proposed activities, provide the name(s) of the organization(s), as well as the applicant's staff person who will coordinate the activity and/or supervise the other staff. For each organization listed, provide a letter from that organization identifying the specific activity and the capacity of the assisting organization or subcontractor, and their role in carrying out the proposed activities.

6. Sharing experiences (1 page). Describe how materials that are developed or activities that are successful will be shared with others. Examples of such activities include, but are not limited to:

a. Sharing project related materials through newsletters, clearinghouses, workshops, and conferences.

b. Disseminating materials upon request to affiliates and CDC-funded and other national, state, and local organizations.

c. Disseminating information and materials to interested organizations within a state that employ a wide range of strategies to prevent sexual behaviors that result in HIV infection, other STDs, and unintended pregnancy.

7. Collaborating (1 page). Describe the types of proposed collaboration and the agencies and organizations with whom collaboration will be conducted. Examples of such activities include, but are not limited to:

a. Planning and implementing joint training programs or workshops.

b. Planning and convening joint conferences.

c. Participating in conferences or workshops with other recipients.

d. Identifying measures of progress.

8. Evaluation (4 pages). Describe a plan that evaluates the program's effectiveness in meeting its objectives. For each of the types of evaluation listed below, specify the evaluation question to be answered, data to be obtained, the type of analysis, to whom it will be reported, and how data will be used to improve the program. Indicate in the plan the projected staff and time lines to be used.

a. Process evaluation. Evaluate the program's progress in meeting objectives and conducting activities during the budget period.

b. Outcome evaluation. Assess the effectiveness of proposed activities, including training sessions and documents developed in attaining goal(s) at the completion of each 1-year budget period and the 5-year project period.

9. Budget and Accompanying Justification. Provide a detailed budget and line-item justification of all operating expenses for the 1-year budget period. The budget should be consistent with the stated objectives and planned activities of the project. The budget should include the cost of a 4-day trip to Atlanta for two individuals.

10. Typing and Mailing. Application pages must be numbered clearly, and a complete table of contents of the application and its appendixes must be included. Begin each separate section on a new page. The original and each copy of the application set must be submitted unstapled and unbound. All materials must be typewritten, single-spaced, using an unreduced font not less than 12 point (10 characters per inch) on 8½″ × 11″ paper, with at least a 1″ margin, including headers and footers, and printed on one side only.

F. Submission and Deadline

Application

Submit the original and two copies of PHS 5161-1 (OMB Number 0937-0189). Forms are in the application kit. On or before March 15, 2000, submit the application to: Robert Hancock, Grants Management Specialist, Grants Management Branch, Procurement and Grants Office, Program Announcement 00026, Centers for Disease Control and Prevention (CDC), 2920 Brandywine Road, Room 3000, Atlanta, Georgia 30341.

Deadline: Applications shall be considered as meeting the deadline if they are either:

(a) Received on or before the deadline date or,

(b) Sent on or before the deadline date and received in time for submission to the independent review group. (Applicants must request a legibly dated U.S. Postal Service postmark or obtain a legibly-dated receipt from a commercial carrier or U.S. Postal Service.

Private metered postmarks shall not be acceptable as proof of timely mailing).

Late Applications: Applications which do not meet the criteria in (a) or (b) above are considered late applications, will not be considered, and will be returned to the applicant.

G. Evaluation Criteria (100 Points)

Each application will be evaluated individually according to the following criteria by an independent review group appointed by CDC.

1. Background (10 points). The extent to which the applicant documents their organization's experience in addressing the purpose of the program announcement, and the rationale for the proposed activities.

2. Capacity (30 points). The extent to which the applicant demonstrates the capacity and ability of their organization to carry out the required recipient activities (page 4-7) to work exclusively on helping young people to not engage in sexual intercourse, and engage a range of CDC-funded and other organizations that work to prevent the risk behaviors that place all young people, and particularly those from communities of color, at risk for HIV infection, other STDs, and unintended pregnancy.

3. Operational Plan (25 points). The extent to which the applicant:

a. Identifies Goals. The extent to which the applicant has submitted goals that are specific and feasible for the projected 5-year project period and are consistent with program requirements.

b. Identifies Objectives. The extent to which the applicant has submitted objectives for the 1-year budget period that are specific, measurable, and feasible and are related directly to the program's goals.

c. Proposes activities that are likely to achieve each objective for the budget period.

d. Addresses each recipient activity.

e. Provides a reasonable time line for conducting those activities.

4. Project Management and Staffing (15 points). The extent to which the applicant identifies staff members that have experience in activities that increase the number of young people who do not engage in sexual intercourse and that have the responsibility, capability, and authority to carry out each activity, as evidenced by job descriptions, curriculum vitae, organizational charts, and letters of support from collaborating agencies.

5. Sharing Experiences and Resources (5 points). The extent to which the applicant indicates how it will share credible materials and activities regarding strategies to help young people to not engage in sexual intercourse in an effort to prevent HIV infection, STDs, and unintended pregnancy.

6. Collaborating (5 points). The extent to which the applicant describes how they will collaborate with CDC-funded State and local education agencies, postsecondary institutions, and/or other national organizations.

7. Evaluation (10 points). The extent and method to which the applicant proposes to measure progress in meeting objectives and program effectiveness, and presents a reasonable plan for obtaining data, reporting the results, and using the results for programmatic decisions.

8. Budget (Not Scored). The extent to which the applicant provides a detailed and clear budget narrative consistent with the stated objectives, planned activities and goals of the project.

H. Other Requirements

Technical Reporting Requirements

Provide CDC with original plus two copies of:

1. Annual progress reports.

2. Financial status report, no more than 90 days after the end of the budget period; and

3. Final financial and performance reports, no more than 90 days after the end of the project period.

Send all reports to:

Robert Hancock, Grants Management Specialist,Grants Management Branch, Procurement and Grants Office, Centers for Disease Control and Prevention (CDC), 2920 Brandywine Road, Room 3000,Atlanta, Georgia 30341.

The following additional requirements are applicable to this program. For a complete description of each, see Attachment I in the application kit.

AR-5 HIV Program Review Panel Requirements

AR-7 Executive Order 12372 Review

AR-8 Public Health System Reporting Requirements

AR-9 Paperwork Reduction Act Requirements

AR-10 Smoke-Free Workplace Requirements

AR-11 Healthy People 2000

AR-12 Lobbying Restrictions

AR-15 Proof of Non-profit Status

I. Authority and Catalog of Federal Domestic Assistance Number

This program is authorized under Sections 301(a), 311(b)and (c), and 317(k)(2) of the Public Health Service Act [42 U.S.C. section 241(a), 243(b) and (c), and 247b(k)(2)], as amended. The Catalog of Federal Domestic Assistance number is 93.938.

J. Where to Obtain Additional Information

Please refer to Program Announcement 00026 when you request information. For a complete program description, information on application procedures, an application package, and business management technical assistance, contact:Robert Hancock, Grants Management Specialist, Grants Management Branch, Procurement and Grants Office, Program Announcement 00026, Centers for Disease Control and Prevention (CDC), 2920 Brandywine Road, Room 3000,Atlanta, Georgia 30341, Telephone: (404) 488-2746, E-mail address: rnh2@cdc.gov.

See also the CDC home page on the Internet: http://www.cdc.gov.

For program technical assistance, contact Mary Vernon-Smiley, Chief, Special Populations Section, Program Development and Services Branch, Division of Adolescent and School Health, National Center for Chronic Disease Prevention and Health Promotion, Mail Stop K-31, Centers for Disease Control and Prevention (CDC), 4770 Buford Highway, NE, Atlanta, Georgia 30341-3717, E-mail address mev0@cdc.gov; phone (770) 488-3253.

To receive additional written information and to request an application kit, call 1-888-GRANTS4 (1-888-472-6874). You will be asked to leave your name and address and will be instructed to identify the announcement number of interest.

Dated: January 21, 2000.
John L. Williams,
Director, Procurement and Grants Office, Centers for Disease Control and Prevention.

[FR Doc. 00-1924 Filed 1-28-00; 8:45 am]

BILLING CODE 4163-18-P